DEPARTMENT OF JUSTICE

Notice of Proposed Consent Decrees Under the Comprehensive Environmental Response, Compensation, and Liability Act (CERCLA)

Pursuant to Section 122(d)(2) of CERCLA, 42 U.S.C. 9622(d)(2), notice is hereby given that on June 28, 2011, two proposed Consent Decrees in United States v. Atlantic Land and Improvement Co. et al., Civil Action No. 8:11-cv-01435-EAK-EAJ, were lodged with the United States District Court for the Middle District of Florida.

In this action the United States sought to require the Defendants, Atlantic Land and Improvement Co. (“ALI”) and Stephen J. Cook and Patricia J. Cook (“the Cooks”), to conduct remedial design and remedial action to address releases and threatened releases of hazardous substances at the Raleigh Street Dump Superfund Site (“Site”) in Tampa, Hillsborough County, Florida. The United States also sought to recover past and future costs incurred and to be incurred by the Environmental Protection Agency (EPA) during the performance of response actions at the Site.

Under the Consent Decree with ALI, ALI will perform the remedial design and remedial action at the Site. The remedy provides for excavation of approximately 12,000 cubic yards of contaminated soils and sediments, replacement with clean fill to pre-removal grade, monitored natural attenuation of contaminated groundwater, and restoration of on-site wetlands impacted during removal of contaminated soils/sediments. ALI will also excavate an additional approximately 2,000 cubic yards of soil and place approximately 4,400 square feet of concrete slab under existing buildings at the Site. ALI will also reimburse the Hazardous Substance Superfund in the amount of $175,000 for EPA's future response costs at the Site.

Under the Consent Decree with the Cooks, the Cooks will record a notice to successors-in-title and deed restrictions on the portion of the Site owned by them; ensure that materials and land use at the Site do not interfere with the remedial action; and reimburse the Hazardous Substance Superfund in the amount of $20,000.

The Department of Justice will receive for a period of thirty (30) days from the date of this publication comments relating to the Consent Decrees. Comments should be addressed to the Assistant Attorney General, Environment and Natural Resources Division, and either emailed to pubcomment-ees.enrd@usdoj.gov or mailed to P.O. Box 7611, U.S. Department of Justice, Washington, DC 20044-7611, and should refer to United States v. Atlantic Land and Improvement Co. et al., Civil Action No. 8:11-cv-01435-EAK-EAJ, DOJ Ref. # 90-11-2-09654.

The Consent Decrees may be examined at EPA Region 4, Atlanta Federal Center, 61 Forsyth Street, SW., Atlanta, Georgia 30303. During the public comment period, the Consent Decrees may also be examined on the following Department of Justice Web site: http://www.usdoj.gov/enrd/Consent_Decrees.html. Copies of the Consent Decrees may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting copies from the Consent Decree Library, please refer to United States v. Atlantic Land and Improvement Co. et al., Civil Action No. 8:11-cv-01435-EAK-EAJ, DOJ Ref. # 90-11-2-09654. For the ALI decree, enclose a check in the amount of $80.25 (25 cents per page reproduction cost) payable to the U.S. Treasury. For the Cooks decree, enclose a check in the amount of $10.50 payable to the U.S. Treasury.

Maureen M. Katz,
Assistant Section Chief, Environmental Enforcement Section. Environment & Natural Resources Division.

[FR Doc. 2011-16984 Filed 7-6-11; 8:45 am]

BILLING CODE 4410-15-P